DEPARTMENT OF COMMERCE

International Trade Administration

[Docket No. 000104003-0003-01]

Special American Business Internship Training Program (SABIT)

AGENCY: International Trade Administration, Commerce.

ACTION: Notice.

SUMMARY: In support of the U.S. State Department's Russian Regional Initiative for the Russian Far East, SABIT is launching a special grant program for the region of Sakhalin, Russia. This Notice announces availability of funds for the Special American Business Internship Training Program (SABIT), for training oil and gas managers and engineers (also referred to as “interns”) from Sakhalin, Russia. The Department of Commerce, International Trade Administration (ITA) established the SABIT program in September 1990 to assist Russia's transition to a market economy. Since that time, SABIT has been matching business managers, engineers and scientists from Russia with U.S. firms which provide them hands-on training in a U.S. market economy.

Under the SABIT program, qualified U.S. firms will receive funds through a cooperative agreement with ITA to help defray the cost of hosting interns. ITA will interview and recommend eligible interns to participating companies. Interns must be from Sakhalin Region, Russia. The U.S. firms will be expected to provide the interns with a hands-on, non-academic, executive training program designed to maximize their exposure to management or technical operations. At the end of the training program, interns must return to Sakhalin, Russia.

DATES: The closing date for applications is March 3, 2000. An original and two copies of the application (Standard Form 424 (Rev. 4-92) and supplemental material) are to be sent to the address designated in the Application Kit and postmarked no later than the closing date. Applications will be considered on a “rolling” basis as they are received, subject to the availability of funds. If available funds are depleted prior to the closing date, a notice to that effect will be published in the Federal Register. Processing of complete applications takes approximately two to three months. All awards are expected to be made by May 2000.

ADDRESSES: Request for Applications: Competitive Application kits will be available from ITA starting on the day this notice is published. To obtain a copy of the Application Kit please E-mail: SABITApply@ita.doc.gov (please state which format, e.g. WordPerfect© 6.1), telephone (202) 482-0073, facsimile (202) 482-2443 (these are not toll free numbers), or send a written request with two self-addressed mailing labels to Application Request, The SABIT Program, HCHB Room 3319, U.S. Department of Commerce, 14th Street and Constitution Avenue, NW., Washington, DC, 20230. Only one copy of the Application Kit will be provided to each organization requesting it, but it may be reproduced by the requester.

FOR FURTHER INFORMATION CONTACT: Liesel C. Duhon, Director, SABIT Program, U.S. Department of Commerce, phone—(202) 482-0073, facsimile—(202) 482-2443. These are not toll free numbers.

SUPPLEMENTARY INFORMATION: SABIT exposes Russian business managers, engineers and scientists to a completely new way of thinking in which demand, consumer satisfaction, and profits drive production. Mid to senior-level executives visiting the U.S. for internship programs with public or private sector companies will be exposed to an environment which will provide them with practical knowledge for transforming their countries' enterprises and economies to the free market. The program provides first-hand, eye-opening experience to managers, engineers and scientists which cannot be duplicated by American managers traveling to their territories.

Managers and Engineers

SABIT assists economic restructuring in Russia by providing top-level business managers and engineers with practical training in American methods of innovation and management in such areas as strategic planning, financing, production, distribution, marketing, accounting, wholesaling, technology and labor relations. This first-hand experience in the U.S. economy enables interns to become leaders in establishing and operating a market economy in Russia, and creates a unique opportunity for U.S. firms to familiarize key executives from Russia with their products and services. Sponsoring U.S. firms will benefit by establishing relationships with key managers in similar industries who are uniquely positioned to assist their U.S. sponsors to do business in Russia.

The Special American Business Internship Training program's Catalog of Federal Domestic Assistance (CFA) number is 11.114.

Funding Availability

Pursuant to section 632(a) of the Foreign Assistance Act of 1961, as amended (the “Act”) funding for the program will be provided by the United States Agency for International Development (A.I.D). ITA will award financial assistance and administer the program pursuant to the authority contained in section 635(b) of the Act and other applicable Grant rules. The estimated amount of financial assistance available for the program is $420,000.

Funding Instrument and Project Duration

Federal assistance will be awarded pursuant to a cooperative agreement between ITA and the recipient firm. All internships are three to eighteen (18) months. Eighteen (18) month internships are limited in number and will be available on a case-by-case basis based on the needs identified in the training proposals. In addition, ITA reserves the right to allow an intern to stay for a shorter period of time (no less than one month) if the U.S. company agrees and the intern demonstrates a need for a shorter internship based on his or her management responsibilities. ITA will reimburse companies for the round trip international travel of each intern from the intern's home city in Sakhalin, Russia to one U.S. internship site, upon submission to ITA of the paid travel invoice, payment receipt, or other evidence of payment and the form SF-270, “Request for Advance or Reimbursement.” Travel under the program is subject to the Fly America Act. Recipient firms provide $30 per day directly to interns; ITA will reimburse recipient firms for this stipend of $30 per day per intern, for up to 18 months, upon submission by company of an end-of-internship report and form SF-270. Recipient firms provide housing for the interns; ITA will reimburse recipient firms for up to $500 per month for actual housing costs, at the same time as the stipend, and upon submission by company of an end-of-internship report and form SF-270. In general, each award will have a cap of $29,000 per intern (for a maximum period of eighteen (18) months) for total cost of airline travel, stipend and housing costs. However, the total payment cannot exceed the award amount. There are no specific matching requirements for the awards. Host firms, however, are expected to bear the costs beyond those covered by the award, including: visa fees, insurance, any food and incidental costs beyond $30 per day, interpretation, training manuals, any training-related travel within the U.S., and provision of the hands-on training for the interns.

U.S. firms wishing to utilize SABIT in order to be matched with an intern without applying for financial assistance may do so. Such firms will be responsible for all costs, including travel expenses, related to sponsoring the intern. However, prior to acceptance as a SABIT intern, work plans and candidates must be approved by the SABIT Program. Furthermore, program training will be monitored by SABIT staff and evaluated upon completion of training.

Eligibility: Eligible applicants for the SABIT program will include all for profit or non-profit U.S. corporations, associations, organizations or other public or private entities. Agencies or divisions of the federal government are not eligible.

Project Funding Priorities

Applicant proposal must provide an explanation, including description and extent of involvement, in priority business sector—oil and gas industry.

Evaluation Criteria: Consideration for financial assistance will be given to those SABIT proposals which:

(1) Demonstrate a commitment to the intent and goals of the program to provide practical, on-the-job, non-academic, non-classroom, training. Include a brief objectives section indicating why the Applicant wishes to provide an internship to a manager(s) or engineers(s) from Sakhalin, Russia, and how the proposed internship would further the purpose of the SABIT program as described above. Also, the Applicant should note how the internship to be provided will respond to the priority needs of senior business managers and engineers in Sakhalin, Russia, as determined by ITA.

(2) Present a realistic work plan describing in detail the training program to be provided to the SABIT intern(s). Work plans must include the proposed internship training activities. The components of the training activities must be described in as much detail as possible, preferably on a week-by-week basis. The description of the training activities should include an account of what the intern's(s') duties and responsibilities will be during the training.

(3) The application should also have a section noting: (a). Whether Applicant is applying to host managers or engineers (and the number of each); (b). The duration of the internship; (c). The location(s) of the internship; (d). The name, address, and telephone number of the designated internship coordinator; (e). Name(s) of division(s) in which the intern(s) will be placed; (f). The individual(s) in the U.S. company under whose supervision the intern will train; (g). the anticipated housing arrangements to be provided for the intern(s). Note that housing arrangements should be suitable for mid-and senior-level professionals, and that each intern must be provided with a private room; (h). A statement that the host firm is solidly committed to interns' return to Russia upon completion of the internships.

(4) Provide a general description of the profile of the intern(s) the Applicant would like to host, including: educational background; occupational/professional background (including number of years and areas of experience); and size and nature of organization at which the intern(s) is/are presently employed.

Evaluation criteria 1-4 will be weighted equally.

ITA does not guarantee that it will match Applicant with the profile provided to SABIT.

Selection Procedures

Each application will receive an independent, objective review by one or more three or four-member independent review panels qualified to evaluate applications submitted under the program. Applications will be evaluated on a competitive, “rolling” basis (first-come, first-served) as they are received in accordance with the selection evaluation set forth above. Awards will be made to those applications which successfully meet the selection criteria. If funds are not available for all those applications which successfully meet the criteria, awards will be made to the first applications received which successfully do so. ITA reserves the right to reject any application; to limit the number of interns per applicant; to limit the duration of training; and to waive informalities and minor irregularities in applications received. The final selecting official reserves the right to make awards based on U.S. geographic and organization size diversity among applicants, as well as to consider priority business sectors (listed in Project Funding Priorities, above) when making awards. Recipients may be eligible, pursuant to approval of an amendment of an active award, to host additional interns under the program. ITA reserves the right to evaluate applicants based on past performance. The Director of the SABIT Program is the final selecting official for each award.

Additional Information

Applicants must submit: (1) Evidence of adequate financial resources of Applicant organization to cover the costs involved in providing an internship(s). As evidence of such resources, Applicant should submit financial statements audited by an outside organization or an annual report including such statements. If these are not available, a letter should be provided from the Applicant's bank or outside accountant attesting to the financial capability of the firm to undertake the scope of work involved in training an intern under the SABIT program. (2) Evidence of a satisfactory record of performance in grants, contracts and/or cooperative agreements with the Federal Government, if applicable. (Applicants who are or have been deficient in current or recent performance in their grants, contracts, and/or cooperative agreements with the Federal Government shall be presumed to be unable to meet this requirement) (3) A statement that the Applicant will provide medical insurance coverage for interns during their internships. Recipients will be required to submit proof of the interns' medical insurance coverage to the Federal Program Officer, before the interns' arrivals. The insurance coverage must include an accident and comprehensive medical insurance program as well as coverage for accidental death, emergency medical evacuation, and repatriation.

Other Requirements: All applicants are advised of the following:

1. No award of Federal funds shall be made to an Applicant who has an outstanding delinquent Federal debt until either the delinquent account is paid in full, a negotiated repayment schedule is established and at least one payment is received, or other arrangements satisfactory to the Department of Commerce (DOC) are made.

2. A false statement on the application is grounds for denial or termination of funds and grounds for possible punishment by a fine or imprisonment as provided in 18 U.S.C. 1001.

3. Recipients and subrecipients are subject to all Federal laws and Federal and Departmental regulations, policies and procedures applicable to financial assistance awards.

4. Participating companies will be required to comply with all relevant U.S. tax and export regulations. Export controls may relate not only to licensing of products for export, but also to technical data transfer.

5. Applications under this program are not subject to Executive Order 12372, “Intergovernmental Review of Federal Programs.”

6. If applicants incur any costs prior to an award being made, they do solely at their own risk of not being reimbursed by the Government. Notwithstanding any verbal or written assurance that may have been received, there is no obligation on the part of DOC to cover pre-award costs.

7. Past performance: Unsatisfactory performance by an applicant under prior Federal awards may result in an application not being considered for funding.

8. No obligation for future funding: If an application is selected for funding, DOC has no obligation to provide any additional future funding in connection with that award. Renewal of an award to increase funding or extend the period of performance is at the total discretion of DOC.

9. Primary Applicant Certifications: All primary applicants must submit a completed Form CD-511, “Certifications Regarding Debarment, Suspension and Other Responsibility Matters; Drug-Free Workplace Requirements and Lobbying,” and the following explanations are hereby provided:

(a) Nonprocurement Debarment and Suspension: Prospective participants (as defined at 15 CFR Part 26, Section 105) are subject to 15 CFR Part 26, “Nonprocurement Debarment and Suspension” and the related section of the certification form prescribed above applies.

(b) Drug Free Workplace: Grantees (as defined at 15 CFR Part 26, Section 605) are subject to 15 CFR Part 26, Subpart F, “Government wide Requirements for Drug-Free Workplace (Grants)” and the related section of the certification form prescribed above applies.

(c) Anti-Lobbying: Funds provided under the SABIT program may not be used for lobbying activities. Persons (as defined at 15 CFR Part 28, Section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000, or the single family maximum mortgage limit for affected programs, whichever is greater.

(d) Anti-Lobbying Disclosures: Any applicant that has paid or will pay for lobbying in connection with this award using any funds must submit an SF-LLL, “Disclosure of Lobbying Activities,” as required under 15 CFR Part 28, Appendix B.

10. All primary applicants must also submit a completed Standard Form 424, “Application for Federal Assistance” and a Standard Form 424B, “Assurances—Non-Construction Programs.” Form CD-511 and Standard Forms 424 and 424B are included in the Application Kit supplied by the SABIT office.

11. Lower Tier Certifications: Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to DOC. SF-LLL submitted by any tier recipient or subrecipient should be submitted to DOC in accordance with the instructions contained in the award document.

12. Indirect Costs: Indirect costs are not allowed under the SABIT program.

13. Applicants are hereby notified that any equipment or products authorized to be purchased with funding provided under this program must be American-made to the greatest extent practicable.

14. The following statutes apply to this program: Section 907 of the FREEDOM Support Act, Public Law 102-511, 22 U.S.C. 5812 note (Restriction on Assistance to the Government of Azerbaijan); 7 U.S.C. § 5201 et seq. (Agricultural Competitiveness and Trade—the Bumpers Amendment); The Foreign Assistance Act of 1961, as amended, including Chapter 11 of Part I, section 498A (b) Public Law 102-511, 22 U.S.C. 2295a(b), (regarding ineligibility for assistance); 22 U.S.C. 2420(a), Section 660(a) of The Foreign Assistance Act of 1961, as amended (Police Training Prohibition); and provisions in the annual Foreign Operations, Export Financing, and Related Programs Appropriations Acts, concerning Use of American Resources, Impact on Jobs in the United States and Commerce and Trade (see, e.g., §§ 546, 538 and 513 respectively of the Foreign Operations, Export Financing, and Related Appropriations Act, 1998, Public Law 105-118).

15. Audit Requirements: The DOC Office of Inspector General has authority under the Inspector General Act of 1978, as amended, to conduct an audit of any DOC award at any time.

16. Payments. As required by the Debt Collections Improvement Act of 1996, all Federal payments to award recipients pursuant to this announcement will be made by electronic funds transfer.

17. The collection of information is approved by the Office of Management and Budget, OMB Control Number 0625-0225. Public reporting for this collection of information is estimated to be three hours per response, including the time for reviewing instructions, and completing and reviewing the collection of information. All responses to this collection of information are voluntary, and will be protected from disclosure to the extent allowed under the Freedom of Information Act. Notwithstanding any other provision of law, no person is required to respond to nor shall a person be subject to the requirements of the Paperwork Reduction Act unless that collection of information displays a current valid OMB Control Number. Send comments regarding the burden estimate or any other aspect of this collection of information, including suggestions for reducing this burden, to the Reports Clearance Officer, International Trade Administration, Department of Commerce, Room 4001, 14th and Constitution Ave., NW, Washington, DC 20230.

For Further Information Contact: Special American Business Internship Training, International Trade Administration, at (202) 482-0073. This is not a toll free-number.

Dated: January 10, 2000.
Liesel C. Duhon,
Director, SABIT Program.

[FR Doc. 00-1005 Filed 1-14-00; 8:45 am]

BILLING CODE 3510-HE-P